DEPARTMENT OF ENERGY

Federal Energy Regulatory Commission

[Docket No. CP03-302-001]

Cheyenne Plains Gas Pipeline Company, LLC; Notice of Application

November 17, 2003.

On November 6, 2003, Cheyenne Plains Gas Pipeline Company, LLC (Cheyenne Plains), P.O. Box 1087, Colorado Springs, Colorado 80944, filed in Docket No. CP03-302-001, a Petition to Amend the Order Issuing a Preliminary Determination on Non-Environmental Issues (Order), pursuant to Section 7 of the Natural Gas Act (NGA), as amended, and Part 157 and 284 of the regulations of the Federal Energy Regulatory Commission (Commission). Specifically, Cheyenne Plains is seeking to amend the Order to modify the originally proposed design of the Cheyenne Plains Project by: (1) Increasing the diameter of the proposed mainline; and (2) decreasing the total amount of compression to be installed at the Cheyenne Hub. Cheyenne Plains states it is also finalizing the amine gas treatment facilities design. Although Cheyenne Plains is proposing to modify the size of the pipeline and the amount of compressor horsepower, these changes will not change the 560,000 Dth per day design capacity of the Project. Further, in this filing Cheyenne Plains is also providing updated information on its financing proposals, including the conversion of Cheyenne Plains from a “C” corporation to an LLC, all as more fully set forth in the petition which is on file with the Commission and open to public inspection. This filing is available for review at the Commission or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

In its Petition to Amend Order, Cheyenne Plains states that since the filing of its initial application, it has now determined that the pipeline and compressor facilities constituting the core of Cheyenne Plains' interstate pipeline system should be modified in concert with recent supply and market events that have combined to define an immediate need for a larger size pipeline system with a commensurate reduction in horsepower. Cheyenne Plains states that these amended facilities, when placed into service, will support the initial design capacity of 560,000 Dth per day for the 14 original shippers and, at the same time, will allow for future expansions of the system in an expeditious manner with a minimum of environmental impacts and minimal landowner impacts.

Any questions concerning this Petition to Amend Order may be directed to Robert T. Tomlinson, Director, Regulatory Affairs, Cheyenne Plains Gas Pipeline Company, LLC, P.O. Box 1087, Colorado Springs, Colorado, 80944, at (719) 520-3788 or fax (719) 667-7534; or to Judy A. Heineman, Vice President and General Counsel, Cheyenne Plains Gas Pipeline Company, LLC, P.O. Box 1087, Colorado Springs, Colorado, 80944, at (719) 520-4829 or fax (719) 520-4898.

There are two ways to become involved in the Commission's review of this project. First, any person wishing to obtain legal status by becoming a party to the proceedings for this project should file with the Federal Energy Regulatory Commission, 888 First Street, NE, Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests, comments and interventions may be filed electronically via the Internet in lieu of paper; see, 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: February 17, 2004.

Magalie R. Salas,
Secretary.

[FR Doc. E4-262 Filed 2-11-04; 8:45 am]

BILLING CODE 6717-01-P